DEPARTMENT OF ENERGY

Federal Energy Regulatory Commission

[Docket No. AD09-11-000]

Energy Efficiency of Natural Gas Infrastructure and Operations Conference; Supplemental Notice of Public Conference

May 3, 2010.

As announced in the “Notice of Public Conference” issued on March 31, 2010, a public conference will be held on May 25, 2010, from 9 a.m. to 3 p.m. (EST) in the Commission Meeting Room at the Federal Energy Regulatory Commission, 888 First Street, NE., Washington, DC 20426. The conference will be open for the public to attend and advance registration is not required. Members of the Commission are expected to attend and participate in the conference.

The purpose of this conference is to explore issues related to efficiency measures on the interstate natural gas grid as well as waste heat recovery opportunities. This conference will also provide an opportunity for interested parties to express their views and suggestions regarding ongoing efforts at the Commission to promote efficiency measures.

A free Webcast of this event is available through http://www.ferc.gov. Anyone with Internet access who desires to listen to this event can do so by navigating to the Calendar of Events at http://www.ferc.gov and locating this event in the Calendar. The event will contain a link to its Webcast. The Capitol Connection provides technical support for Webcasts and offers the option of listening to the conference via phone-bridge for a fee. If you have any questions, visit http://www.CapitolConnection.org or call (703) 993-3100.

FERC conferences are accessible under section 508 of the Rehabilitation Act of 1973. For accessibility accommodations please send an e-mail to accessibility@ferc.gov or call toll free 866-208-3372 (voice) or (202) 208-8659 (TTY), or send a FAX to (202) 208-2106 with the required accommodations.

For information about the conference, please contact Pamela Romano at (202) 502-6854 or pamela.romano@ferc.gov.

Kimberly D. Bose,
Secretary.

[FR Doc. 2010-11535 Filed 5-13-10; 8:45 am]

BILLING CODE 6717-01-P